DEPARTMENT OF AGRICULTURE

Natural Resources Conservation Service

[Docket No. NRCS-2023-0011]

Notice of Intent To Prepare an Environmental Impact Statement for the Lower Little Tallapoosa River Watershed Carroll County, Georgia

AGENCY: Natural Resources Conservation Service, USDA.

ACTION: Notice of intent (NOI) to prepare an environmental impact statement (EIS).

SUMMARY: The Natural Resources Conservation Service (NRCS) Georgia State Office, announces its intent to prepare a watershed plan and EIS for the Lower Little Tallapoosa River 25A (also commonly known as Indian River), located in Carroll County on Indian Creek approximately 5 miles upstream of its confluence with Turkey Creek and approximately 14 miles northwest of Carrollton in the proximity of Bowdon, Georgia. The proposed watershed plan will examine alternative solutions to flood prevention and agricultural water management measures for the Carroll County Water Authority (CCWA) service area. NRCS is requesting comments to identify significant issues, potential alternatives, information, and analysis relevant to the proposed action from all interested individuals, Federal and State, agencies, and Tribes.

DATES: We will consider comments that we receive by October 16, 2023. Comments received after close of the comment period will be considered to the extent possible.

ADDRESSES: We invite you to submit comments in response to this notice. You may submit your comments through one of the methods below:

• Federal eRulemaking Portal: Go to http://www.regulations.gov and search for docket ID NRCS-2023-0011. Follow the online instructions for submitting comments; or

• Mail or Hand Delivery: J. Tyler Coats, P.E., Associate, Schnabel Engineering, LLC, 6445 Shiloh Road, Suite A, Alpharetta, GA 30005. In your comment, specify the docket ID NRCS-2023-0011.

All comments received will be posted without change and made publicly available on www.regulation.gov.

FOR FURTHER INFORMATION CONTACT: Diane A. Guthrie; telephone: (706) 546-2310; email: diane.guthrie@usda.gov; or Andrea P. Gray: telephone (678) 364-2384; email: andrea@andreapgray.com. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose of the watershed plan is to provide flood protection and damage reduction to meet current and future water demands in CCWA's service area and a rural water supply for 180,000 acres, providing 15,662 acre-feet of surface water. Watershed planning is authorized under the Watershed Protection and Flood Prevention Act of 1954 (Pub. L. 83-566), as amended, and the Flood Control Act of 1944 (Pub. L. 78-534).

The dominant land use of the watershed for the CCWA structure was historically a combination of agriculture and woodlands which generally remains unchanged today after more than 50 years, although some development has occurred downstream of the structure. The proposed Lower Little Tallapoosa River 25A project will address evaluating alternatives that will maintain or improve the currently provided level of flood protection and increase and maintain safe and reliable supplies of water for agriculture management and the local community. It will also increase water conservation and improve water delivery efficiency in the Lower Little Tallapoosa Watershed, which has been in use for nearly 50 years.

Development within the downstream breach zone has resulted in a change in classification for the Lower Little Tallapoosa River 25A to a high hazard structure. Due to changes in evaluation criteria, the dam does not meet current safety and performance standards for the integrity, stability, or capacity of a high hazard structure. Additionally, the current watershed structure will reach the end of its original 50-year design life in 2024 and needs to be brought into compliance with modern dam safety criteria including the regulations under the Georgia Rules for Safe Dams and NRCS TR-60 design criteria.

To meet the purpose of flood protection for the Lower Little Tallapoosa Watershed, the existing structures will be replaced with a new multipurpose structure to provide flood control and agriculture water management. A Draft Supplemental Watershed Plan and Environmental Assessment (EA) was prepared in 2021, which investigated and studied possible solutions to address flood protection and agricultural water management in the Lower Little Tallapoosa Watershed. As a result of the new information obtained during the EA process, the level of analysis this watershed project requires is more extensive than initially anticipated. Estimated Federal funds required for the construction of the proposed action may exceed $25 million and the proposed action will, therefore, require congressional approval per the 2018 Agriculture Appropriations Act amended funding threshold. In accordance with 7 CFR 650.7(a)(2), an EIS is required for projects requiring congressional approval.

Preliminary Proposed Action and Alternatives

The objective of the EIS is to formulate and evaluate alternatives for flood prevention and agricultural water management in the Carroll County Water Authority service area. The EIS is expected to evaluate two alternatives: one action alternative and one no action alternative. The alternatives that may be considered for detailed analysis include:

Alternative 1—Proposed Action—Construction of a new watershed dam: The Lower Little Tallapoosa Watershed Structure No. 25A will be replaced with a new multipurpose structure to maintain or improve the currently provided levels of flood control and provide agricultural water management. This alternative would construct a new earthen embankment with a maximum height of approximately 120 ft. The reservoir area at normal pool will be 401 acres with a total storage volume of 5.1 billion gallons (at the top of dam). The structure will supply up to 6 million gallons per day (MGD) of raw water to the Carroll County Water Authority's service area. Inflows to the dam and reservoir will be supplemented by pumping water from the Little Tallapoosa River. Water will be withdrawn from the Little Tallapoosa River (in compliance with the CCWA withdrawal permits) 0.5 miles downstream of its crossing at Reavesville Road and pumped to the reservoir via a raw water pipeline. The pipeline goes over approximately 9 miles primarily along road right of ways to the reservoir. Raw water will be pumped to a new water treatment plant adjacent to the reservoir.

Alternative 2—No Action: Taking no action would consist of measures carried out if no Federal action or funding were provided. If the existing structure continues to operate in its current condition, it would be limited in its withdrawal capacity and will not be capable of meeting the average daily water supply demand for the CCWA's service area. The dam and spillway do not meet current requirements for high hazard potential dams, and as such pose a threat to downstream life and property if a significant hydrologic event occurs. The current auxiliary spillway does not meet the current criteria for capacity and does not have the required erosion resistance and integrity and could experience significant damage or failure and breach in a storm event. The No Action Alternative will not meet the Lower Little Tallapoosa River 25A project's purpose and will serve as the baseline for comparison with the action alternatives.

Summary of Expected Impacts

As mentioned above, the estimated Federal contribution to construction cost will exceed $25 million. This EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed action. CCWA and NRCS evaluated the current Lower Little Tallapoosa Watershed Structure No. 25A infrastructure along with relevant resource concerns for each proposed solution.

Environmental resources in the Lower Little Tallapoosa River 25A project area consist of the natural and human-made environment. Resource concerns to be identified and addressed in the Watershed Plan-EIS include Cultural and Historic Resources; Land Resources and Prime Farmland; Geology and Soils; Public Safety; Socioeconomics and Environmental Justice; Water Resources; Vegetation and Invasive and Non-native Plant Species; Wetlands and Riparian Areas; Fish and Wildlife and Fish Habitat; and Special Status Species and Migratory Bird Treaty Act Species.

Anticipated Permits and Authorizations

The following permits and authorizations are anticipated to be required:

• Clean Water Act (CWA) Section 404 Permit. Implementation of the proposed Federal action would require a CWA section 404 permit from the U.S. Army Corps of Engineers. CCWA received a section 404 permit for the construction of the Indian Creek Reservoir on June 17, 2021.

• CWA Section 401 Permit. The Lower Little Tallapoosa River 25A project would also require water quality certification under CWA section 401 and permitting under CWA section 402 (National Pollutant Discharge Elimination System Permit). CCWA received a section 401 certification on August 5, 2020.

• Dam Safety and Floodplain Permit. Local dam safety and floodplain permits will be required for construction and operation of the dam.

• Surface Water Withdrawal Permit. CCWA received the required surface water withdrawal permits on November 2, 2021.

• Georgia Department of Transportation Right of Way Encroachment Permit. The proposed action will require a raw water pipeline that may impact State Highway 100 and 166.

• NHPA Section 106 consultation. Consultation with the Georgia Historic Preservation Division, Tribal Nations, and interested parties will be conducted as required by the National Historic Preservation Act of 1966 (as amended) (16 U.S.C. 470f).

Schedule of Decision-Making Process

A Draft EIS (DEIS) will be prepared and circulated for review and comment by agencies, Tribes, consulting parties, and the public for at least 45 days as required by 40 CFR 1503.1, 1502.20, 1506.11, and 1502.17, and 7 CFR 650.13. The DEIS is anticipated to be published in the Federal Register, approximately 6 months after publication of this NOI. A Final EIS is anticipated to be published within 6 months of completion of the public comment period for the DEIS.

NRCS will decide whether to implement one of the alternatives as evaluated in the EIS. A Record of Decision will be completed after the required 30-day waiting period and will be publicly available. The responsible Federal official and decision maker for the NRCS is the Georgie NRCS State Conservationist.

Public Scoping Process

CCWA held 7 public meetings between 2007 and 2017 as part of the EA process for its section 404 permit and 5 additional meetings with NRCS as part of the scoping process on May 23, 2018; July 16, 2018; March 28, 2019; August 1, 2019, and January 13, 2023. An additional public scoping meeting was held on May 1, 2023. Comments received, including the names and addresses of those who comment, will be part of the public record. Comments submitted anonymously will be accepted and considered. Scoping meeting presentation materials are available on the watershed project website: www.indiancreekreservoir.com. The date, time, and location for any future meetings will be announced on the Lower Little Tallapoosa River 25A project website.

Federal, State, Tribal, local agencies and representatives, and the public were invited to take part in this watershed plan scoping period through which coordination, sought input on issues of economic, environmental, cultural, and social importance in the watershed. CCWA and NRCS organized the public scoping meeting to provide an opportunity to review and evaluate the Lower Little Tallapoosa River 25A project alternatives, express concern or support, and gain further information regarding the Lower Little Tallapoosa River 25A project. To determine the most viable alternatives to carry forward to the EIS, CCWA used input obtained during public scoping discussions to focus on relevant resource concerns and issues and eliminated those that were not relevant from further detailed study.

Identification of Potential Alternatives, Information, and Analyses

NRCS invites agencies, Tribes, consulting parties, and individuals that have special expertise, legal jurisdiction, or interest in the Lower Little Tallapoosa River 25A project to provide comments concerning the scope of the analysis and identification of potential alternatives, information, and analyses relevant to the Proposed Action in writing.

NRCS will coordinate the scoping process to correspond with any required NHPA processes, as allowed in 36 CFR 800.2(d)(3) and 800.8 (54 U.S.C. 306108). The information about historic and cultural resources within the area potentially affected by the proposed Lower Little Tallapoosa River 25A project will assist NRCS in identifying and evaluating impacts to such resources in the context of both NEPA and NHPA.

NRCS will consult with Native American tribes on a government-to-government basis in accordance with 36 CFR 800.2 and 800.3, Executive Order 13175, and other policies. Tribal concerns, including impacts on Indian trust assets and potential impacts to cultural resources and historic properties, will be given due consideration.

Authorities

This document is published pursuant to the NEPA regulations regarding publication of a NOI to issue an EIS (40 CFR 1501.9(d)). Watershed planning is authorized under the Watershed Protection and Flood Prevention Act of 1954, as amended, and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This Lower Little Tallapoosa River 25A project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Terrance Rudolph,
Georgia State Conservationist, Natural Resources Conservation Service.

[FR Doc. 2023-18688 Filed 8-29-23; 8:45 am]

BILLING CODE 3410-16-P